DEPARTMENT OF DEFENSE

Department of the Army

[Docket ID: USA-2024-HQ-0008]

Submission for OMB Review; Comment Request

AGENCY: Department of the Army, Department of Defense (DoD).

ACTION: 30-Day information collection notice.

SUMMARY: The DoD has submitted to the Office of Management and Budget (OMB) for clearance the following proposal for collection of information under the provisions of the Paperwork Reduction Act.

DATES: Consideration will be given to all comments received by December 23, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Defense Biometric Identification Records System; OMB Control Number 0702-0127.

Type of Request: Revision.

Number of Respondents: 1,430,000.

Responses per Respondent: 1.

Annual Responses: 1,430,000.

Average Burden per Response: 7 minutes.

Annual Burden Hours: 166,833.

Needs and Uses: The Defense Biometric Identification Records System (also referred to as the DoD Automated Biometric Identification System (ABIS)) is an authoritative biometrics data repository that processes, matches, and stores biometric identity information data collected by global United States (U.S.) forces during the course of military operations. The information processed by DoD ABIS is collected by DoD military personnel worldwide across the full range of military operations for DoD warfighting, intelligence, law enforcement, security, force protection, base access, homeland defense, counterterrorism, business enterprise purposes, and in information environment mission areas. Records collected by DoD military personnel using hand-held biometric collection devices include biometric information, such as images, photos, and templates of biological (anatomical and physiological) and/or behavioral characteristics that can be used for automated recognition, including, fingerprints, palm prints, facial images, iris images, DNA, and voice samples. Biographic information (such as name, date of birth, place of birth, height, weight, eye color, hair color, race, etc.) and contextual information (i.e., organization, telephone number, office symbol, security clearance, etc.) is also collected by the DoD military personnel during the enrollment process. The information collected and processed by DoD ABIS may be shared with, accessed, and leveraged by DoD partners, U.S. Government inter-agency and departmental stakeholders, and approved multi-national partners for intelligence, counterterrorism, military force protection, national security, and law enforcement purposes.

Affected Public: Individuals or households.

Frequency: On occasion.

Respondent's Obligation: Voluntary.

OMB Desk Officer: Ms. Jasmeet Seehra.

DoD Clearance Officer: Mr. Reginald Lucas.

Dated: November 19, 2024.
Stephanie J. Bost,
Alternate OSD Federal Register Liaison Officer, Department of Defense.

[FR Doc. 2024-27403 Filed 11-21-24; 8:45 am]

BILLING CODE 6001-fr-P